DEPARTMENT OF JUSTICE

Antitrust Division

Notice Pursuant to The National Cooperative Research and Production Act of 1993—Medical Technology Enterprise Consortium

Notice is hereby given that, on November 18, 2020, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Abram Scientific, Inc., Menlo Park, CA; Accenture Federal Services, Arlington, VA; Ace Laboratories Inc., Yarrow Point, WA; Aceso Plasma, Virginia Beach, VA; ACF Technologies, Inc, Asheville, NC; Action Medical Technologies LLC, Conshohocken, PA; Acuity Systems, LLC, Herndon, VA; Aerpio Pharmaceuticals, Cincinnati, OH; AirStrip Technologies, San Antonio, TX; Airway Medical Innovations Pty Ltd, Brisbane Queensland, AUS; Aktivax, Inc., Broomfield, CO; Allvivo Vascular, Inc., Lake Forest, CA; Altimmune, Inc., Gaithersburg, MD; Amydis, Inc., San Diego, CA; Aptahem AB, Malmo, SWE; Aptive Resources, LLC, Alexandria, VA; ARD Global LLC, McLean, VA; Articulate Labs, Dallas, TX; Ashvattha Therapeutics, Inc, Redwood City, CA; Astrocyte Pharmaceuticals Inc., Cambridge, MA; Asymmetric Technologies, LLC, Columbus, OH; Athena GTX, Johnston, IA; Atomo, Inc, West Lake Hills, TX; Augusta University Resarch lnstitute, Inc., Augusta, GA; Augustine Consulting, Inc. (ACI), Monterrey, CA; Auxocell Laboratories, Inc, Cambridge, MA; Avera Health, Sioux Falls, SD; Bambu Vault, LLC, Lowell, MA; Berry Consultants, LLC, Austin, TX; Beyond Barriers Therapeutics, Inc., Glencoe, IL; Bioflight, LLC, Akron, OH; BioGenerator, Saint Louis, MO; Biotags LLC, Key Biscayne, FL; Blue Cirrus Consulting LLC, Greenville, SC; Board of Trustees of the University of Illinois, Champaign, IL; Brainbox Solutions Inc., Richmond, VA; CAPRICOR THERAPEUTICS, INC., Beverly, CA; Carahsoft Technology Corporation, Reston, VA; Centivax, Inc., South San Francisco; Ceras Health Inc., New York, NY; Channel Clinical Solutions, LLC, Raleigh, NC; Chenega Reliable Services, LLC, San Antonio, TX; Cherish Health, Inc., Cambridge, MA; Clarkson University, Potsdam, NY; Coalition for National Trauma Research, San Antonio, TX; Computer Technology Associates, Inc., Ridgecrest, CA; Conflict Kinetics Corporation, Sterling, VA; Core Mobile Networks Inc.; DBA Core Mobile Inc., Campbell, CA; Crimson Government LLC, Carlisle, OH; Curza Global, LLC, Salt Lake City, UT; Data Intelligence Technologies, Inc., Arlington, VA; DEFTEC Corporation, Huntsville, AL; Digital For Mental Health (MYNDBLUE), Paris, FRA; Diomics Corporation, Murrietta, CA; DocBox Inc., Waltham, MA; EchoNous Inc., Redmond, WA; ECI Defense Group, Lyles, TN; Empatica, Inc., Boston, MA; Endomedix Inc., Montclair, NJ; Etiometry Inc., Boston, MA; Eumentis Therapeutics Inc, Newton, MA; Exciton Technologies Inc., Edmonton, Alberta, CAN; Expesicor Inc., Missoula, MT; FesariusTherapeutics Inc., Brooklyn, NY; FHI Clinical Inc., Durham, NC, Fitbit, Inc., San Franciso, CA; Flashback Technologies, Inc., Louisville, CO; FloTBI Inc., Cleveland, OH; FUJIFILM Pharmaceuticals USA, Inc., Valhalla, NY; GelMEDIX Inc., Newton, MA; GeneCapture, Inc., Huntsville, AL; General Biologics Inc., Cambridge, MA; Get Help Now LLC, Fort Myers, FL; GreyScan Inc., Melbourne, FL; Heat Biologics, Morrisville, NC; Hememics Biotechnologies Inc, Gaithersburg, MD; Hough Ear Institute, Oklahoma City, OK; Humanetics Corporation, Edina, MN; Hybrid Plastics Inc., Hattiesburg, MS; Iacta Pharmaceuticals Inc, Irvine, CA; Ichor Sciences, LLC, Nashville, TN; ImmunoVation, LLC, Pasadena, CA; INCELL Corporation LLC, San Antonio, TX; Infectious Disease Research Institute, Seattle, WA; Inflammatory Response Research Inc., Santa Barbara, CA; Informa Business Intelligence Inc., New York, NY; Inhalon Biopharma, Inc., Durham, NC; Innovenn, Inc., Madison, WI; Innsightful, Inc., Sunnyvale, CA; Integrated Computer Solutions, Inc., Waltham, MA; InTouch Technologies, D/B/A Inc. InTouch Health, Goleta, CA; J.R. Reingold & Associates, Inc, Alexandria, VA; JTEK Data Solutions, LLC, Bethesda, MD; KMASS SOLUTIONS, El Paso, TX; Knowmadics, Inc., Herndon, VA; Level Ex, Inc., Chicago, IL; LifeQ, Inc, Alphaertta, GA; LMI Consulting, LLC, Tysons, VA; LOGGEREX INC., Deland, FL; Lumen Bioscience, Inc., Seattle, WA; Luna Innovations Incorporated, Roanoke, VA; MadApparel Ind. DBA Athos, Redwood City, CA; ManTech Advanced Systems International, Inc., Herndon, VA; Mantel Technologies Inc., Fort Collins, CO; Masimo Corporation, Irvine, CA; Materials Modification Inc., Fairfax, VA; Medcura, Inc., Riverdale, MD; Media Riders Inc., Pearland, TX; Medical Center of the Americas Foundation, El Paso, TX; Medicortex Finland Oy, Turku, FIN; Medtrade Products Limited, Crew, Cheshire, GBR; MEMBIO INC., Kitchener, CAN; Mespere LifeSciences Inc., Waterloo, Ontario, CAN; MicroHealth, LLC, Vienna, VA; Microsoft, Redmon, VA; Millennium Enterprise Corporation, Fairfax, VA; Mineurva LLC, Albuquerque, NM; Moberg Analytics Inc., Ambler, PA; Moleculin Biotech, Inc., Houston, TX; Nanowear Inc., New York, NY; Neuronasal Inc, Wexford, PA; Neuronoff, Inc., Valencia, CA; New Horizons Diagnostics Corporation, Baltimore, MD; New Jersey Institute of Technology, Newark, NJ; NoMo Diagnostics, Chicago, IL; Non-Invasive Medical Systems LLC, Stamford, CT; North Carolina State University, Raleigh, NC; Northwestern University, Evanson, IL; Nostromo, LLC, Kennebunk, ME; Nuada Orthopedics, Inc., Sherborn, MA; Nyrada Inc., Gordon, AUS; Obatala Sciences, Inc., New Orleans, LA; Oculogica, Inc., New York, NY; Odin Technologies, Chicago, IL; OLGS Inc., Imperial, PA; Oregon Health & Science University, Portland, OR; Otolith Labs, Washington, DC; Panakeia LLC, Newport News, VA; Parnell Pharmaceuticals Inc., San Rafael, CA; Patchd, Inc., San Francisco, CA; Perspecta Enterprise Solutions LLC, Herndon, VA; Pinteon Therapeutics, Newton Center, MA; Posit Science Corporation, San Francisco, CA; PPD Development LP, Wilmington, NC; Predictions Systems Inc., Spring Lake, NJ; Promaxo, Oakland, CA; QUASAR Federal Systems, Inc., San Diego, CA; REACT Neuro, Cambridge, MA; Remote Health LLC, Springfield, OH; Renovo Concepts, Inc., San Antonio, TX; Rensselaer Polytechnic Institute, Troy, NY; Research Bridge Partners, Inc., Austin, TX; Resolys Bio, Inc., Delanson, NY; RIVA Solutions, Inc., McLean, VA; RTI International, Research Triangle Park; SAIC, Reston, VA; Sandstone Diagnostics, Inc., Pleasanton, CA; SaNOtize Research & Development Corp., Vancouver, CAN; Sense Diagnostics Inc., Cincinnati, OH; Sentien Biotechnologies, Lexington, MA; ServiceNow, Inc., Vienna, VA; Seventh Dimension, LLC, Mocksville, NC; Shipcom Federal Solutions, LLC, Belcamp, MD; Sibel Inc., Evanston, IL; Sierra Nevada Corporation (SNC), Sparks, NV; SightLife, Seattle, WA; Sim Vivo LLC, Essex, NY; SimX, Inc., Mountain View, CA; Snoretox Pty Ltd, Kew, Victoria, AUS; Softox Solutions AS, Oslo, NOR; STEL Technologies, LLC, Ann Arbor, MI; Stuart Therapeutics Inc, Stuart, FL; Symbinas Pharmaceuticals Inc., Jacksonville, FL; Systems Engineering Solutions Corporation, Greenbelt, MD; TechWerks LLC; Arlington Heights, IL; TeleCommunication Systems, Inc., Annapolis, MD; TensorX, Inc, Vienna, VA; Texas A&M University, College Station, TX; The Cleveland Clinic Foundation, Cleveland, OH; The Curators of the University of Missouri, on behalf of Missouri University of Science and Technology, Rolla, MO; The Research and Recognition Project Inc, Corning, NY; The Spaulding Rehabilitation Corporation, Charlestown, MA; The Spectrum Group, LLC, Alexandria, VA; The University of Alabama at Birmingham, Birmingham, AL; The University of Tennessee Health Science Center, Memphis, TN; The University of Texas at Dallas, Richardson, TX; Thornhill Reasearch Inc., North York, Ontario, CAN; Thornton Tomasetti, Inc., New York, NY; Tiber Creek Partners, Tiber Creek Partners, VA; Tissue Regeneration Sciences, Inc, Park City, UT; TITUS Sports Academy LLC, Tallahassee, FL; Tomorrow Lab LLC, New York, NY; Topadur Pharma AG, Schlieren, CHE; Trifecta Solutions, Reston, VA; Triton Systems Inc, Chelmsford, MA; Trustees of the University of Pennsylvania, Philadelphia, PA; UNandUP, LLC, Saint Louis, MO; Unissant, Inc., Herndon, VA; Universal Consulting Services, Inc., Fairfax, VA; University of Arizona Applied Research Corporation, Tucson, AZ; University of Georgia Research Foundation, Inc., Athens, GA; University of Kansas Medical Center Research Institute, Inc., Kansas City, KS; University of North Carolina at Chapel Hill, Chapel Hill, NC; University of Ottawa, Ottawa, CAN; University of South Carolina, Columbia, SC; University of South Florida, Tampa, FL; University of Southern California, Los Angeles, CA; Vinformatix LLC, Baton Rouge, LA; VIRGINIA HIGH PERFORMANCE LLC, Virginia Beach, VA; VirtuSense Technologies, Inc., Peoria, IL; Vista LifeSciences, Inc., Parker, CO; VXBIOSCIENCES, INC., Oakland, CA; Zane Networks, LLC, Washington, DC; ZOLL Medical Corporation, Chelmsford, MA; have been added as parties to this venture.

Also, 21 MedTech, LLC, Burlington, NC; 410 Medical, Inc., Elgin, NC; 911 Medical Devices, LLC, Houston, TX; 98point6 Inc., Seattle, WA; Adventist Health System—Sunbelt, Inc. dba Florida Hospital, Orlando, FL; Akron Biotechnology, LLC, Boca Raton, FL; American Type Culture Collection (ATCC Federal Solutions), Manassas, VA; Arrevus, Inc., Raleigh, NC; Auckland UniServices Limited, Auckland, NZL; Awarables Inc., Baltimore, MD; Axonova Medical, LLC, Philadelphia, PA; Becton Dickinson & Company, Franklin Lake, NJ; Biobeat Technologies Ltd., Petach, Yikva, ISR; BioSpyder Technologies, Inc., Carlsbad, CA; Blood Systems, Inc. dba Blood Systems Research Institute, Scottsdale, AZ; bR3 UNIQ, Inc. dba QUADYSTER, Bettendorf, IA; Bramante Bioscience, Elmira Heights, NY; Brain Power, LLC, Cambridge, MA; Caci, Inc.—Federal, Chantilly, VA; Calimex USA Corporation, San Francisco, CA; Carmell Therapeutics Corporation, Pittsburgh, PA; Case Western Reserve University, Cleveland, OH; CFD Research Corporation, Huntsville, AL; Combat Medical Systems, Harrisburg, NC; Cortical Metrics, LLC, Semora, NC; Crius Technology Group, Austin, TX; Detact Diagnostics BV, Hoge der, Gronigen Netherlands; Droper Med America, LLC, Elgin, SC; Engility Corporation, Chantilly, VA; Existential Technologies, Inc., Chula Vista, CA; Family Health International DBA FHI 360, Durham, NC; FloTBI, Cleveland, OH; FullSekurity Corporation, Irving, TX; Full Spectrum Omega, Inc., Huntington Beach, CA; Georgia Tech Research Corporation, Atlanta, GA; HeadsafelP Pty Ltd, Bronte, NSW, AUS; Healios, Inc., Flemington, NJ; Hemoclear B.V., Zwolle, Overijssel, Netherlands; Howmedica Osteonics Corp. dba Stryker Orthopaedics, Mahwah, NJ; Human Biomed, Inc., Siuth Burlington, VT; HYPR Life Sciences, Inc., Pilot Mountain, NC; ImmunoVation, LLC, Pasadena, CA; Integrum Scientific, LLC, Greensboro, NC; Irving Burton Associates, Inc. (IBA), Falls Church, VA; JumpStartCSR, Seattle, WA; Knowledge Driven LLC, Alexandria, VA; Kindred Biosciences, Inc., Burlingame, CA; Lieber Institute, Inc., Baltimore, MD; LongView International Technology Solutions, Inc., Herndon, VA; Magle Chemoswed AB, Lund, SWE; Massachusetts Eye and Ear Infirmary, Boston, MA; Melinta Therapeutics, Inc., New Haven, CT; MilanaPharm, LLC, Tallassee, AL; Molecular Biologicals, Pasadena, TX; MO-SCI Corporation, Rollo, MO; New Horizons Diagnostics Corporation, Baltimore, MD; New York University School of Medicine, New York, NY; Next Generation Stretcher Ltd, Raman gan, ISR; NON-INVASIVE MEDICAL SYSTEMS, LLC, Stamford, CT; NUES LLC, Silver Spring, MD; Onera Health Inc., Palo Alto, CA; PEER Technologies PLLC, Fairfax, VA; Phagelux (Canada) Inc., Montreal, CAN; Physcient, Inc., Durham, NC; Pluristem LTD, Haifa, ISR; PolarityTE MD, Inc., Salt Lake City, UT; Pop Test Oncology LLC aka Palisades Therapeutics, Cliffside Park, NJ; Power of Patients, LLC, Charleston, SC; Praeses, LLC, Shreveport, LA; Prep Tech, LLC, Westlake, LA; Pulmotect, Inc., Houston, TX; Q2Pharma, Haifa, ISR; Qrons, Inc., Miami, FL; Radical Concepts LLC, Brooklyn, NY; RegenFix, LLC, Toledo, OH; Remedor Biomed Ltd., Nazareth Illit, ISR; Roccor, LLC, Longmont, CO; San Diego Blood Bank, San Diego, CA; Scinus Cell Expansion B.V., Bilthoven, Utrecht; Seran Bioscience, Bend, OR; Sleep Care, Inc., Columbus, OH; SmartPoints Technology, Inc., Stow, MA; Southern Research Institute, Birmingham, AL; SurgiBox Inc., Brookline, MA; Syracuse University, Syracuse, NY; TBT Pharma, LLC, Baltimore, MD; TearSolutions, Inc., Charlottesville, VA; TerumoBCT, Inc., Lakewood, CO; TheraNova, LLC, San Francisco, CA; The University of Arizona, Defense and Security Research Institute (DSRI), Tucson, AZ; ThoraXS Israel 17 Ltd, Tzur Hadassa, ISR; Trailhead Biosystems Inc., Cleveland, OH; Truecath Inc., Camarillo, CA; Trustees of Boston University, Boston, MA; University of Florida Division of Sponsored Programs, Gainesville, FL; University of South Carolina, Columbia, SC; University of Tartu, Tartu, EST; Upside Biotechnologies Ltd., Auckland, NZL; Virginia Polytechnic Institute and State University, Blacksburg, VA; Wello, Inc., Addison, TX; Williams-Jones Consulting, Greenville, SC; Worcester Polytechnic Institute, Worcester, MA; X-Therma Inc., Richmond, CA; Yale University, New Haven, CT have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on October 17, 2019. A notice was published in the Federal Register pursuant to Section 6(b) of the Act on November 12, 2019 (84 FR 61071).

Suzanne Morris,
Chief, Premerger and Division Statistics, Antitrust Division.

[FR Doc. 2020-26978 Filed 12-8-20; 8:45 am]

BILLING CODE 4410-11-P